DEPARTMENT OF TRANSPORTATION

Office of the Secretary

Notice of Applications for Certificates of Public Convenience and Necessity and Foreign Air Carrier Permits Filed Under Subpart B (Formerly Subpart Q) During The Week Ending August 24, 2001

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-1996-1371.

Date Filed: August 23, 2001.

Due Date for Answers, Conforming Applications, or Motion to Modify Scope: September 13, 2001.

Description: Application of Delta Air Lines, Inc., pursuant to 49 U.S.C. Sections 41102 and 41108 and Subpart B, requesting renewal of its authority to engage in scheduled foreign air transportation of persons, property and mail between the terminal point Atlanta, Georgia, and the coterminal points Madrid, Barcelona, Malaga and Palma de Mallorca, Spain.

Dorothy Y. Beard,
Federal Register Liaison.

[FR Doc. 01-22539 Filed 9-6-01; 8:45 am]

BILLING CODE 4910-62-P